DEPARTMENT OF TRANSPORTATION

Federal Aviation Administration

14 CFR Part 95

[Docket No. 30751; Amdt. No. 490]

IFR Altitudes; Miscellaneous Amendments

AGENCY: Federal Aviation Administration (FAA), DOT.

ACTION: Final rule.

SUMMARY: This amendment adopts miscellaneous amendments to the required IFR (instrument flight rules) altitudes and changeover points for certain Federal airways, jet routes, or direct routes for which a minimum or maximum en route authorized IFR altitude is prescribed. This regulatory action is needed because of changes occurring in the National Airspace System. These changes are designed to provide for the safe and efficient use of the navigable airspace under instrument conditions in the affected areas.

DATES: Effective Date: 0901 UTC, November 18, 2010.

FOR FURTHER INFORMATION CONTACT: Harry Hodges, Flight Procedure Standards Branch (AMCAFS-420), Flight Technologies and Programs Division, Flight Standards Service, Federal Aviation Administration, Mike Monroney Aeronautical Center, 6500 South MacArthur Blvd., Oklahoma City, OK 73169 (Mail Address: P.O. Box 25082 Oklahoma City, OK 73125) telephone: (405) 954-4164.

SUPPLEMENTARY INFORMATION: This amendment to part 95 of the Federal Aviation Regulations (14 CFR part 95) amends, suspends, or revokes IFR altitudes governing the operation of all aircraft in flight over a specified route or any portion of that route, as well as the changeover points (COPs) for Federal airways, jet routes, or direct routes as prescribed in part 95.

The Rule

The specified IFR altitudes, when used in conjunction with the prescribed changeover points for those routes, ensure navigation aid coverage that is adequate for safe flight operations and free of frequency interference. The reasons and circumstances that create the need for this amendment involve matters of flight safety and operational efficiency in the National Airspace System, are related to published aeronautical charts that are essential to the user, and provide for the safe and efficient use of the navigable airspace. In addition, those various reasons or circumstances require making this amendment effective before the next scheduled charting and publication date of the flight information to assure its timely availability to the user. The effective date of this amendment reflects those considerations. In view of the close and immediate relationship between these regulatory changes and safety in air commerce, I find that notice and public procedure before adopting this amendment are impracticable and contrary to the public interest and that good cause exists for making the amendment effective in less than 30 days.

Conclusion

The FAA has determined that this regulation only involves an established body of technical regulations for which frequent and routine amendments are necessary to keep them operationally current. It, therefore—(1) is not a “significant regulatory action” under Executive Order 12866; (2) is not a “significant rule” under DOT Regulatory Policies and Procedures (44 FR 11034; February 26, 1979); and (3) does not warrant preparation of a regulatory evaluation as the anticipated impact is so minimal. For the same reason, the FAA certifies that this amendment will not have a significant economic impact on a substantial number of small entities under the criteria of the Regulatory Flexibility Act.

List of Subjects in 14 CFR Part 95

Airspace, Navigation (air).

Issued in Washington, DC, on October 22, 2010.
John M. Allen,
Director, Flight Standards Service.

Adoption of the Amendment

Accordingly, pursuant to the authority delegated to me by the Administrator, part 95 of the Federal Aviation Regulations (14 CFR part 95) is amended as follows effective at 0901 UTC, November 18, 2010.

1. The authority citation for part 95 continues to read as follows:

Authority: 49 U.S.C. 106(g), 40103, 40106, 40113, 40114, 40120, 44502, 44514, 44719, 44721.

2. Part 95 is amended to read as follows:

Revisions to IFR Altitudes & Changeover Points
[Amendment 490 Effective Date November 18, 2010]
From | To | MEA
§ 95.1001 Direct Routes-U.S. Color Routes
§ 95.6138 Blue Federal Airway B38 is Amended to Delete
HAINES, AK NDB | U.S. CANADIAN BORDER | 10000

From | To | MEA | MAA
§ 95.3000 Low Altitude RNAV Routes
§ 95.3225 RNAV Route T225 is Amended To Read in Part
TANANA, AK VOR/DME | REEBA, AK FIX | 4000 | 17500
REEBA, AK FIX | *FAIRBANKS, AK VORTAC | 5000 | 17500
*4700—MCA FAIRBANKS, AK VORTAC, W BND
§ 95.3229 RNAV Route T229 is Amended To Read in Part
*FAIRBANKS, AK VORTAC | REEBA, AK FIX | 5000 | 17500
*4700—MCA FAIRBANKS, AK VORTAC, W BND
REEBA, AK FIX | TANANA, AK VOR/DME | 4000 | 17500

From | To | MEA
§ 95.6001 VICTOR ROUTES-U.S.
§ 95.6003 Vor Federal Airway V3, is Amended To Read in Part
#DOLPHIN, FL VORTAC | #FORT LAUDERDALE, FL VOR/DME | 2100
#FORT LAUDERDALE R-213 UNUSABLE, USE DOLPHIN R-037
#FORT LAUDERDALE, FL VOR/DME | #PALM BEACH, FL VORTAC | 2000
#FORT LAUDERDALE R-006 USUSABLE, USE PALM BEACH R-189
§ 95.6008 VOR Federal Airway V8 is Amended To Read in Part
GRAND JUNCTION, CO VOR/DME | *SQUAT, CO FIX | **10500
*11700—MRA
*11700—MCA SQUAT, CO FIX, NE BND
**9600—MOCA
*SQUAT, CO FIX | RIFLE, CO VOR/DME | 13200
*11700—MCA SQUAT, CO FIX, NE BND
RIFLE, CO VOR/DME | KREMMLING, CO VOR/DME | 13400
§ 95.6056 VOR Federal Airway V56 is Amended To Read in Part
FAYETTEVILLE, NC VOR/DME | *ROZBO, NC FIX | 2000
*3100—MRA | *ROZBO, NC FIX | WALLO, NC FIX | 2000
*3100—MRA
§ 95.6063 VOR Federal Airway V63 is Amended To Read in Part
#WAUSAU, WI VORTAC | ##RHINELANDER, WI VORTAC | *4000
*4000—GNSS MEA
#WAUSAU R-005 UNUSABLE BYD 10 NM. GNSS REQUIRED BEYOND 10 NM
##RHINELANDER R-185 UNUSABLE BYD 10 NM. GNSS REQUIRED BEYOND 10 NM
§ 95.6133 VOR Federal Airway V133 is Amended To Read in Part
BARRETTS MOUNTAIN, NC VOR/DME | MULBE, NC FIX | 5400
MULBE, NC FIX | STOVE, VA FIX | 7200
STOVE, VA FIX | PINEE, WV FIX | *13000
*7000—MOCA
*7000—GNSS MEA
PINEE, WV FIX | CHARLESTON, WV VORTAC | *7000
*5000—MOCA
*5000—GNSS MEA
§ 95.6140 VOR Federal Airway V140 is Amended To Read in Part
*KENYA, WV FIX | BLUEFIELD, WV VORTAC | 5400
*13000—MRA
§ 95.6177 VOR Federal Airway V177 is Amended To Read in Part
#WAUSAU, WI VORTAC | BAITS, WI FIX | *4500
*3600—MOCA
*4500—GNSS MEA
#WAUSAU R-310 UNUSABLE BYD 10 NM, GNSS REQUIRED BYD 10 NM
BAITS, WI FIX | HAYWARD, WI VOR/DME | *10000
*3100—MOCA
*10000—GNSS MEA
§ 95.6187 VOR Federal Airway V187 is Amended To Read in Part
ROCK SPRINGS, WY VOR/DME | RIVERTON, WY VOR/DME | *12000
*10000—MOCA
*10000—GNSS MEA
§ 95.6197 VOR Federal Airway V197 is Amended To Read in Part
PARADISE, CA VORTAC | #POMONA, CA VORTAC | 4500
#MTA V264 E TO V197 NW 11800
POMONA, CA VORTAC | *HASSA, CA FIX | 6500
*10000—MCA HASSA, CA FIX, NW BND
HASSA, CA FIX | *PALMDALE, CA VORTAC | 10500
*8700—MCA PALMDALE, CA VORTAC, SE BND
§ 95.6216 VOR Federal Airway V216 Is Amended To Read In Part
#JANESVILLE, WI VOR/DME | WIPED, WI FIX | *3000
*GNSS MEA, GNSS REQUIRED.
#JANESVILLE R-073 UNSUABLE, GNSS REQUIRED
WIPED, WI FIX | PETTY, WI FIX | *4000
*GNSS MEA, GNSS REQUIRED
PETTY, WI FIX | SQUIB, MI FIX | *7000
*GNSS MEA, GNSS REQUIRED
SQUIB, MI FIX | MUSKEGON, MI VORTAC | *4000
*3000—GNSS MEA
§ 95.6220 VOR Federal Airway V220 is Amended To Read in Part
SLOLM, CO FIX | RIFLE, CO VOR/DME | 12400
RIFLE, CO VOR/DME | MEEKER, CO VOR/DME | 12400
§ 95.6223 VOR Federal Airway V223 is Amended To Read in Part
*HANEY, VA FIX | FLUKY, VA FIX | 2600
*7000—MRA
§ 95.6259 VOR Federal Airway V259 Is Amended To Read in Part
GRAND STRAND, SC VORTAC | *CLETA, SC FIX | 2000
*3000—MRA
*CLETA, SC FIX | FLORENCE, SC VORTAC | 2000
*3000—MRA
§ 95.6286 VOR Federal Airway V286 is Amended To Read in Part
#ELKINS, WV VORTAC | DERIN, WV FIX | 5700
#ELKINS R-105 UNUSABLE BYD 32 BLW 9000
DERIN, WV FIX | TEAKK, VA FIX | *9000
*6900—MOCA
*6900—GNSS MEA
TEAKK, VA FIX | CASANOVA, VA VORTAC | *6500
*5800—MOCA
*5800—GNSS MEA
CASANOVA, VA VORTAC | FLUKY, VA FIX | *3000
*2300—MOCA
§ 95.6328 VOR Federal Airway V328 is Amended To Read in Part
SNAKY, WY FIX | CELIA, CO FIX | *12000
*10000—GNSS MEA
CELIA, CO FIX | HAYDEN, CO VOR/DME | 10000
§ 95.6345 VOR Federal Airway V345 is Amended To Read in Part
#HAYWARD, WI VOR/DME | *GRASS, WI FIX | **10000
*6000—MRA
*10000—MCA GRASS, WI FIX, SW BND
**3000—MOCA
**4000—GNSS MEA
#HAYWARD UNUSABLE BELOW 10000
§ 95.6374 VOR Federal Airway V374 is Amended To Read in Part
*GAYEL, NY FIX # | BINGHAMTON, NY VORTAC | **6000
*5500—MRA
**4300—MOCA
**GNSS MEA, GNSS REQUIRED
#BINGHAMTON R-129 UNUSABLE. GNSS REQUIRED
§ 95.6375 VOR Federal Airway V375 is Amended To Read in Part
*HANEY, VA FIX | FLUKY, VA FIX | 2600
*7000—MRA
§ 95.6519 VOR Federal Airway V519 is Amended To Read in Part
GLADE SPRING, VA VOR/DME | *TELOC, VA FIX | 6900
*13000—MRA
*TELOC, VA FIX | BLUEFIELD, WV VORTAC | 6100
*13000—MRA
§ 95.6440 Alaska VOR Federal Airway V440 is Amended To Read in Part
U.S. CANADIAN BORDER | LATCH, AK FIX | *12000
*4200—MOCA
*8000—GNSS MEA
LATCH, AK FIX | BIORKA ISLAND, AK VORTAC
| NW BND | 4500
| SW BND | 12000
§ 95.6488 Alaska VOR Federal Airway V488 is Amended To Read in Part
TANANA, AK VOR/DME | *REEBA, AK FIX
| E BND | **7000
| W BND | **4000
*7000—MRA
**4000—MOCA
*REEBA, AK FIX | GOLLY, AK FIX | **7000
*7000—MRA
**5000—MOCA
GOLLY, AK FIX | *FAIRBANKS, AK VORTAC | 5000
*4700—MCA FAIRBANKS, AK VORTAC, W BND
§ 95.6531 Alaska VOR Federal Airway V531 is Amended To Read in Part
*FAIRBANKS, AK VORTAC | GOLLY, AK FIX | 5000
*4700—MCA FAIRBANKS, AK VORTAC, W BND

From | To | MEA | MAA
§ 95.7001 JET ROUTES
§ 95.7095 Jet Route J95 is Amended To Read in Part
DEER PARK, NY VOR/DME | GAYEL, NY FIX | 18000 | 45000
GAYEL, NY FIX | #BINGHAMTON, NY VORTAC | *18000 | 45000
*GNSS MEA, GNSS REQUIRED
#BINGHAMTON R-129 UNUSABLE. GNSS REQUIRED

Airway Segment: From | Airway Segment: To | Changeover Points: Distance | Changeover Points: From
§ 95.8003 VOR Federal Airway Changeover Points
V7 is Amended to Modify Changeover Point
SEMINOLE, FL VORTAC | WIREGRASS, AL VORTAC | 53 | SEMINOLE
ALASKA V440 is Amended to Modify Changeover Point
SANDSPIT, VORTAC | BIORKA ISLAND, AK VORTAC | 119 | SANDSPIT
ALASKA V488 is Amended to Modify Changeover Point
TANANA, AK VOR/DME | FAIRBANKS, AK VORTAC | 40 | TANANA
§ 95.8005 Jet Routes Changeover Points
J501 is Amended to Add Changeover Point
SANDSPIT, VORTAC | BIORKA ISLAND, AK VORTAC | 99 | SANDSPIT

[FR Doc. 2010-27654 Filed 11-1-10; 8:45 am]

BILLING CODE 4910-13-P